DEPARTMENT OF THE INTERIOR

U.S. Geological Survey

[GX19EF00COM0000; OMB Control Number 1028-0092]

Agency Information Collection Activities; Topographic Data Grants

AGENCY: U.S. Geological Survey, Interior.

ACTION: Notice of information collection; request for comment.

SUMMARY: In accordance with the Paperwork Reduction Act of 1995, we, the U.S. Geological Survey (USGS) are proposing to renew an information collection.

DATES: Interested persons are invited to submit comments on or before September 20, 2019.

ADDRESSES: Send your comments on this information collection request (ICR) by mail to U.S. Geological Survey, Information Collections Officer, 12201 Sunrise Valley Drive, MS 159, Reston, VA 20192; or by email to gs-info_collections@usgs.gov. Please reference OMB Control Number 1028-0092 in the subject line of your comments.

FOR FURTHER INFORMATION CONTACT: To request additional information about this ICR, contact Diane Eldridge by email at deldridge@usgs.gov, or by telephone at 703-648-4521.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The U.S. Geological Survey gathers topographic data through the 3D Elevation Program (3DEP). The primary goal of 3DEP is to systematically collect enhanced elevation data in the form of high-quality light detection and ranging (lidar) data over the conterminous United States, Hawaii, and the U.S. territories, as well as interferometric synthetic aperture radar (ifsar) data over Alaska. The implementation model for 3DEP is based on multi-agency partnership funding for topographic data acquisition, with the USGS acting in a lead program management role to facilitate planning and acquisition for the broader community, through the use of government contracts and partnership agreements. USGS issues cooperative agreements with partners to collect topographic data through an annual Broad Agency Announcement (BAA), which is a competitive solicitation issued to facilitate the cooperative collection of lidar and derived elevation data for the 3D Elevation Program (3DEP) . It has been included in the annual Catalog of Domestic Federal Assistance under USGS 15.8 17. Federal agencies, state and local governments, tribes, academic institutions and the private sector are eligible to submit proposals. USGS collects information from applicants about their proposed topographic data collection, cost sharing and then uses that information to determine grant awards.

Title of Collection: Topographic Data Grants.

OMB Control Number: 1028-0092.

Form Number: None.

Type of Review: Extension of a currently approved collection.

Respondents/Affected Public: State and local governments, tribes, academic institutions and the private sector are eligible to submit proposals.

Total Estimated Number of Annual Respondents: 40.

Total Estimated Number of Annual Responses: 40.

Estimated Completion Time per Response: 62 hours.

Total Estimated Number of Annual Burden Hours: 2,480.

Respondent's Obligation: Required to Obtain or Retain a Benefit.

Frequency of Collection: One time annually.

Total Estimated Annual Nonhour Burden Cost: None.

An agency may not conduct or sponsor and a person is not required to respond to a collection of information unless it displays a currently valid OMB control number.

The authority for this action is the Paperwork Reduction Act of 1995 (44 U.S.C. 3501 et seq).

Michael A. Tischler,
Director, National Geospatial Program.

[FR Doc. 2019-15534 Filed 7-19-19; 8:45 am]

BILLING CODE 4338-11-P